DEPARTMENT OF DEFENSE

Office of the Secretary

Meeting of the Department of Defense Military Family Readiness Council (MFRC)

AGENCY: Office of the Under Secretary of Defense for Personnel and Readiness, Department of Defense.

ACTION: Notice.

SUMMARY: Pursuant to Section 10(a), Public Law 92-463, as amended, notice is hereby given of a forthcoming meeting of the Department of Defense Military Family Readiness Council (MFRC). The purpose of the Council meeting is to review the military family programs and finalize the Council recommendations that will appear in the Council's Annual Report.

The meeting is open to the public, subject to the availability of space. Persons desiring to attend may contact Ms. Melody McDonald at 571-372-0880 or email FamilyReadinessCouncil@osd.mil no later than 5:00 p.m. on Monday, November 26, 2012 to arrange for parking and escort into the conference room inside the Pentagon.

Interested persons may submit a written statement for consideration by the Council. Persons desiring to submit a written statement to the Council must notify the point of contact listed in FOR FURTHER INFORMATION CONTACT no later than 5:00 p.m., Thursday, November 15, 2012.

DATES: Tuesday, December 11, 2012, from 1:00 p.m. to 4:00 p.m.

ADDRESSES: Pentagon Conference Center B6 (escorts will be provided from the Pentagon Metro entrance).

FOR FURTHER INFORMATION CONTACT: Ms. Melody McDonald or Ms. Betsy Graham, Office of the Deputy Under Secretary of Defense (Military Community & Family Policy), 4800 Mark Center Drive, Alexandria, VA 22350-2300, Room 3G15. Telephones (571) 372-0880; (571) 372-0881 and/or email: FamilyReadinessCouncil@osd.mil.

SUPPLEMENTARY INFORMATION: Meeting agenda.

Tuesday, December 11, 2012

Welcome & Administrative Remarks.

Review and Comment on Council Action from September meeting.

Program Evaluation and Recommendation discussion.

Office of the Secretary of Defense Changes to Family Policy.

Meeting Frequency discussion.

Closing Remarks.

Note: Exact order may vary.

Dated: October 12, 2012.
Aaron Siegel,
Alternate OSD Federal Register Liaison Officer, Department of Defense.

[FR Doc. 2012-25506 Filed 10-16-12; 8:45 am]

BILLING CODE 5001-06-P